DEPARTMENT OF DEFENSE

Office of the Secretary

Defense Science Board

ACTION: Meeting date change.

SUMMARY: The Defense Science Board Task Force on Intelligence Needs for Homeland Defense closed meeting scheduled for April 24-25, 2001, has been changed to April 23-24-25-26, 2001. The location of the meeting has not changed; the meeting will be held at Strategic Analysis, Inc., 3601 Wilson Boulevard, Suite 600, Arlington, VA.

Dated: March 28, 2001.
L.M. Bynum,
Alternate OSD Federal Register Liaison Officer, Department of Defense.

[FR Doc. 01-8072 Filed 4-2-01; 8:45 am]

BILLING CODE 5001-10-M